DEPARTMENT OF THE INTERIOR

Bureau of Reclamation

Long-Term North to South Water Transfer Program, Sacramento County, CA

AGENCY: Bureau of Reclamation, Interior.

ACTION: Notice of intent to prepare an Environmental Impact Statement/Environmental Impact Report (EIS/EIR) and notice of scoping meetings.

SUMMARY: The Department of the Interior, Bureau of Reclamation (Reclamation) and the San Luis & Delta-Mendota Water Authority propose to prepare a joint EIS/EIR to analyze the effects of water transfers from water agencies in northern California to water agencies south of the Sacramento-San Joaquin Delta (Delta) and in the San Francisco Bay Area. The EIS/EIR will address transfers of Central Valley Project (CVP) and non-CVP water supplies that require use of CVP or State Water Project (SWP) facilities to convey the transferred water. Water transfers would occur through various methods, including, but not limited to, groundwater substitution and cropland idling, and would include individual and multiyear transfers from 2012 through 2022.

DATES: Submit written comments on the scope of the Long-Term Water Transfer Program by February 28, 2011.

Three public scoping meetings have been scheduled:

• Tuesday, January 11, 2011, 6-8 p.m., Chico, CA.

• Wednesday, January 12, 2011, 2-4 p.m., Sacramento, CA.

• Thursday, January 13, 2011, 6-8 p.m., Los Banos, CA.

ADDRESSES: Send written comments on the scope of the Long-Term Water Transfer Program or issues to be addressed in the EIS/EIR to Mr. Brad Hubbard, Bureau of Reclamation, 2800 Cottage Way, MP-410, Sacramento, CA 95825.

Scoping meetings will be held at:

• Chico at the Chico Masonic Family Center, 1110 W. East Avenue.

• Sacramento at the Best Western Expo Inn & Suites, 1413 Howe Avenue.

• Los Banos at the San Luis & Delta-Mendota Water Authority, 842 Sixth Street.

FOR FURTHER INFORMATION CONTACT: Mr. Brad Hubbard, Project Manager, Bureau of Reclamation, via e-mail at bhubbard@usbr.gov or at 916-978-5204, or Ms. Frances Mizuno, Assistant Executive Director, San Luis & Delta-Mendota Water Authority, via e-mail at frances.mizuno@sldmwa.org at 209-832-6200.

SUPPLEMENTARY INFORMATION: Due to dry hydrological conditions, priority of rights, competing needs, and low reservoir storage levels, water agencies south of the Delta have been using water transfers to supplement local and imported water supplies. Transfers of CVP supplies and transfers that require use of CVP or SWP facilities are subject to review by Reclamation and/or DWR in accordance with the Central Valley Project Improvement Act of 1992, Reclamation's water transfer guidelines, and California State law. Pursuant to Federal and State law and subject to separate written agreement, Reclamation and DWR would facilitate water transfers involving CVP contract water supplies and CVP and SWP facilities. Buyers and sellers would be responsible for negotiating the terms of the transfers, including amount of water for transfer, method to make water available, and price.

The EIS/EIR will identify potential selling parties in northern California, methods by which water could be made available for transfer, and maximum amounts of water available through each method. The EIS/EIR will also identify potential purchasing agencies south of the Delta and the proposed use of transfer water.

The EIS/EIR will investigate alternative transfer methods to make water available. Groundwater substitution and cropland idling have been frequent transfer mechanisms in the past and will be analyzed in the EIS/EIR. Groundwater substitution transfers occur when sellers forego diversion of their surface water supplies and pump an equivalent amount of groundwater as an alternative supply. The purchasing agency would receive the foregone surface water supply. The quantity of water available for transfer would account for potential stream flow losses as a result of groundwater-surface water interaction. Cropland idling would make water available for transfer that would have been used for agricultural irrigation without the transfer. Typically, the proceeds from the water transfer would pay farmers to idle land that they would have placed in production. Rice has been the crop idled most frequently in previous transfer programs.

Water transfers under the Proposed Action involving conveyance through the Delta would be implemented within the operational parameters of the Biological Opinions on the Continued Long-term Operations of the CVP/SWP and any other regulatory restrictions in place at the time of implementation of the water transfers. Current operational parameters applicable to the transfer water include:

• Conveyance of a maximum of 600,000 acre feet per year; and

• Use of the SWP's Harvey O. Banks Pumping Plant and CVP's C.W. “Bill” Jones Pumping Plant during July through September only.

The EIS/EIR is expected to analyze the adverse and beneficial effects of implementing water transfers on the following environmental resources: Surface water, water quality, groundwater, fisheries, vegetation and wildlife, special status species, geology and soils, land use, air quality, climate change, cultural resources, noise, recreation, energy, visual resources, socioeconomics, and Indian trust assets. The EIS/EIR will also evaluate environmental justice and cumulative impacts associated with the Long-Term Water Transfer Program.

Special Assistance for Public Meetings

If special assistance is required to participate in the scoping meeting, please contact Mr. Louis Moore at 916-978-5106 or via e-mail at wmoore@usbr.gov. Please contact Mr. Moore at least ten working days prior to the meeting. A telephone device for the hearing impaired (TDD) is available at 916-978-5608.

Public Disclosure

Before including your name, address, phone number, e-mail address, or other personal identifying information in your comment, you should be aware that your entire comment—including your personal identifying information—may be publicly available at any time. While you can ask us, in your comment, to withhold your personal identifying information from public review, we cannot guarantee that we will be able to do so.

Dated: October 12, 2010.
Anastasia T. Leigh,
Acting Regional Environmental Officer, Mid-Pacific Region.

[FR Doc. 2010-32583 Filed 12-27-10; 8:45 am]

BILLING CODE 4310-MN-P